THE NATIONAL FOUNDATION ON THE ARTS AND THE HUMANITIES

Proposed Collection, Submission for OMB Review, Museums for America Grant Program Evaluation

AGENCY: Institute of Museum and Library Services, The National Foundation on the Arts and the Humanities.

ACTION: Notice, Proposed Collection, Submission for OMB Review.

SUMMARY: The Institute of Museum and Library Services announces the following information collection has been submitted to the Office of Management and Budget for review and approval in accordance with the Paperwork Reduction Act (44 U.S.C. Chapter 35). Individuals who use a telecommunications device for the deaf (TTY/TDD) may call (202) 653-4614. This review helps to ensure that requested data can be provided in the desired format, reporting burden (time and financial resources) is minimized, collection instruments are clearly understood, and the impact of collection requirements on respondents can be properly assessed.

A copy of the proposed information collection request, with applicable supporting documentation, may be obtained by contacting the individual listed below in the ADDRESSES section of this notice.

DATES: Comments must be submitted to the office listed in the contact section below on or before June 7, 2010. The OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Erica Pastore, Program Analyst, Institute of Museum and Library Services, 1800 M St., NW., Washington, DC 20036. Telephone: 202-653-4647, Fax: 202-653-4611 or by e-mail at epastore@imls.gov.

SUPPLEMENTARY INFORMATION: The Institute of Museum and Library Services (IMLS) is an independent Federal grant-making agency and is the primary source of federal support for the Nation's 123,000 libraries and 17,500 museums. IMLS provides a variety of grant programs to assist the Nation's museums and libraries in improving their operations and enhancing their services to the public. IMLS is responsible for identifying national needs for, and trends of, museum and library services funded by IMLS; reporting on the impact and effectiveness of programs conducted with funds made available by IMLS in addressing such needs; and identifying, and disseminating information on, the best practices of such programs. (20 U.S.C. Chapter 72, § 9108).

Abstract: A current IMLS research initiative is an analysis of grants made to museums through the IMLS Museums for America program between 2004 and 2009. The goal is to assess the outcomes and impact of such grants on institutions and their communities. As part of this research initiative, a survey, which is the subject of this Notice, will be undertaken to solicit information from past successful and unsuccessful grant applicants about the application process and the subsequent results on their programs. A small number of museum staff will be interviewed by phone or in person as part of the project case studies. These information collections will be developed based on what is needed to undertake an analysis and case studies of grant results. The information IMLS collects will build on, but not duplicate existing or ongoing collections.

Current Actions: This notice proposes clearance of the Museums for America Grant Program Evaluation. The 60-day Notice for “Museums for America Grant Program Evaluation” was published in the Federal Register on November 24, 2009 (FR vol. 74, no. 225, pg 61378-61379). One comment was received.

Agency: Institute of Museum and Library Services.

Title: Museums for America Grant Program Evaluation.

OMB Number: To be determined.

Agency Number: 3137.

Frequency: One time.

Affected Public: IMLS Museum for America Grant Program Applicants.

Number of Respondents: 900.

Estimated Time per Respondent: Dependent on level of questioning: 475—15 minutes; 250—30 minutes: 175—50 minutes.

Total Burden Hours: 346.

Total Annualized Capital/Startup Costs: $10,375.

Total Annual Costs: NA one time data collection effort.

Contact: Comments should be sent to Office of Information and Regulatory Affairs, Attn.: OMB Desk Officer for Education, Office of Management and Budget, Room 10235, Washington, DC 20503 (202) 395-7316.

Dated: May 5, 2010.
Kim Miller,
Management Analyst, Office of Policy, Planning, Research, and Communication.

[FR Doc. 2010-11025 Filed 5-10-10; 8:45 am]

BILLING CODE 7036-01-P